DEPARTMENT OF DEFENSE

Department of the Air Force

[Docket ID: USAF-2020-HQ-0007]

Submission for OMB Review; Comment Request

AGENCY: Department of the Air Force, Defense.

ACTION: 30-Day information collection notice.

SUMMARY: The Department of Defense has submitted to OMB for clearance the following proposal for collection of information under the provisions of the Paperwork Reduction Act.

DATES: Consideration will be given to all comments received by November 18, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION: Title; Associated Form; and OMB Number: Civil Aircraft Landing Permit System; DD Form 2400, DD Form 2401, DD Form 2402; 0701-0050.

Type of Request: Regular.

Number of Respondents: 5,400.

Responses per Respondent: 1.

Annual Responses: 5,400.

Average Burden per Response: 0.17 hours.

Annual Burden Hours: 918 hours.

Needs and Uses: The collection of information is necessary to identify the aircraft operator and the aircraft to be operated; establish that purpose for use of military airfields; and protect the US Government against litigation. Access must be managed to ensure that security and operational integrity at the airfields are maintained and that the government is not held liable for accidents if the civil aircraft becomes involved in an accident or incident while using military airfields, facilities, and services. This collection will identify the services of legal responsibility if an unforeseen incident occurs on the landing airfield after an approval is granted.

Affected Public: Individuals or households.

Frequency: On occasion.

Respondent's Obligation: Required to retain or obtain benefits.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: October 14, 2020.
Morgan E. Park,
Alternate OSD Federal Register Liaison Officer, Department of Defense.

[FR Doc. 2020-23092 Filed 10-16-20; 8:45 am]

BILLING CODE 5001-06-P